DEPARTMENT OF HOMELAND SECURITY

Coast Guard

46 CFR Part 11

[Docket No. USCG-2004-17914]

RIN 1625-AA16

Implementation of the Amendments to the International Convention on Standards of Training, Certification and Watchkeeping for Seafarers, 1978, and Changes to National Endorsements; Corrections

AGENCY: Coast Guard, DHS.

ACTION: Correcting amendments.

SUMMARY: The Coast Guard published in the Federal Register of December 24, 2013 (78 FR 77796), a final rule entitled “Implementation of the Amendments to the International Convention on Standards of Training, Certification and Watchkeeping for Seafarers, 1978, and Changes to National Endorsements”. This document corrects two amended CFR sections that are causing inconsistencies in interpretation.

DATES: This correction is effective on September 17, 2014.

FOR FURTHER INFORMATION CONTACT: If you have questions on this final rule, call or email Mr. E.J. Terminella, Project Manager, U.S. Coast Guard; telephone 202-372-1239, email emanuel.j.terminellajr@uscg.mil. If you have questions on viewing material on the docket, call Cheryl Collins, Program Manager, Docket Operations, telephone 202-366-9826.

SUPPLEMENTARY INFORMATION: The Coast Guard is correcting a final rule that appeared in the Federal Register of December 24, 2013 (78 FR 77796), entitled “Implementation of the Amendments to the International Convention on Standards of Training, Certification and Watchkeeping for Seafarers, 1978, and Changes to National Endorsements”. Amendments to 46 CFR 11.705 and 11.711 published in the final rule require correction. The Coast Guard has determined that these changes were a result of an oversight in drafting and are causing inconsistencies in the interpretation of the application of the requirement. This correction will ensure the two sections revert back to the language that was in place before the final rule went into effect.

List of Subjects in 46 CFR Part 11

Incorporation by reference, Penalties, Reporting and recordkeeping requirements, Schools, Seamen, Transportation Worker Identification Card.

Accordingly, 46 CFR part 11 is amended by making the following correcting amendments:

PART 11—REQUIREMENTS FOR OFFICER ENDORSEMENTS

1. The authority citation for part 11 continues to read as follows:

Authority: 14 U.S.C. 633; 31 U.S.C. 9701; 46 U.S.C. 2101, 2103, and 2110; 46 U.S.C. chapter 71; 46 U.S.C. 7502, 7505, 7701, 8906, and 70105; Executive Order 10173; Department of Homeland Security Delegation No. 0170.1. Section 11.107 is also issued under the authority of 44 U.S.C. 3507.

§ 11.705 [Amended]

2. In § 11.705, remove paragraph (f).

3. In § 11.711, revise paragraph (c) to read as follows:

§ 11.711 Tonnage requirements.

* * * * *

(c) If an applicant does not have sufficient experience on vessels of 1,600 GRT/3,000 GT or more, the endorsement will be for a limited tonnage until the applicant completes a number of additional roundtrips, as determined by the OCMI, within the range contained in § 11.705(b) or (c) of this subpart, as appropriate on vessels of 1,600 GRT/3,000 GT or more.

* * * * *

Dated: September 11, 2014.
Katia G. Cervoni,
Chief, Office of Regulations and Administrative Law, U.S. Coast Guard.

[FR Doc. 2014-22064 Filed 9-16-14; 8:45 am]

BILLING CODE 9110-04-P